DEPARTMENT OF TRANSPORTATION

Federal Highway Administration

Environmental Impact Statement: Loudoun, Fauquier, Fairfax, Prince William, and Stafford Counties, VA

AGENCY: Federal Highway Administration, DOT.

ACTION: Notice of intent; withdrawal.

SUMMARY: The Federal Highway Administration is issuing this notice to advise the public of its intent to withdraw a notice of intent to prepare an Environmental Impact Statement in cooperating with the Virginia Department of Transportation for potential transportation improvements in the western portion of Northern Virginia, between Route 7 in Loudoun County and Interstate 95 in Stafford County, to address growing regional transportation needs.

FOR FURTHER INFORMATION CONTACT: Edward S. Sundra, Senior Environmental Specialist, Federal Highway Administration, Post Office Box 10249, Richmond, Virginia 23240-0249, Telephone 804-775-3338.

SUPPLEMENTARY INFORMATION: On December 19, 2000, the Federal Highway Administration published a notice of intent in the Federal Register (69 FR 79450, December 19, 2000) to prepare an Environmental Impact Statement in cooperation with the Virginia Department of Transportation for potential transportation improvements in the western portion of Northern Virginia. The project, more commonly known as the Western Transportation Corridor, was proposed to be located between Route 7 in Loudoun County and Interstate 95 in Stafford County and was being developed to address growing regional transportation needs. However, like many other states in the country, the Commonwealth of Virginia has had to deal with budgetary and fiscal priorities brought about by the economic recession. As a result, the Virginia Department of Transportation stopped development of the Western Transportation Corridor and terminated the consultant contract in 2003 for the preparation of the Environmental Impact Statement.

Despite the termination of the consultant contact, the Virginia Department of Transportation considered other options that might lead to the development of the Western Transportation Corridor. In 2004, the Virginia Department of Transportation put out a request to the private sector soliciting their interest in developing the Western Transportation Corridor. The solicitation did not elicit any interest, so the Virginia Department of Transportation will not continue to pursue the development of the Western Transportation Corridor at this time or the preparation of an Environmental Impact Statement.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: February 8, 2005.
Edward S. Sundra,
Senior Environmental Specialist.

[FR Doc. 05-3079 Filed 2-16-05; 8:45 am]

BILLING CODE 4910-22-M